DEPARTMENT OF AGRICULTURE

Agricultural Marketing Service

7 CFR Part 1206

[Document Number AMS-FV-14-0086]

Mango Promotion, Research and Information Order; Continuance Referendum

AGENCY: Agricultural Marketing Service.

ACTION: Referendum Order.

SUMMARY: This document directs that a referendum be conducted among eligible first handlers and importers of mangos to determine whether they favor continuance of the Mango Promotion, Research and Information Order (Order).

DATES: This referendum will be conducted by mail ballot from April 6 through April 17, 2015. First handlers receiving 500,000 or more pounds of mangos from producers and importers importing 500,000 or more pounds of mangos into the United States, during the representative period from January 1 through December 31, 2014, are eligible to vote. Ballots must be received by the close of business on April 17, 2015, to be counted.

ADDRESSES: Copies of the Order may be obtained from: Referendum Agent, Promotion and Economics Division (PED), Fruit and Vegetable Program (FVP), AMS, USDA, Stop 0244, Room 1406-S, 1400 Independence Avenue SW., Washington, DC 20250-0244; telephone: (202) 720-9915, (202) 720-5976 (direct line); facsimile: (202) 205-2800.

FOR FURTHER INFORMATION CONTACT: Jeanette Palmer, Marketing Specialist, PED, FVP, AMS, USDA, Stop 0244, Room 1406-S, 1400 Independence Avenue SW., Washington, DC 20250-0244; telephone: (202) 720-9915, (202) 720-5976 (direct line); facsimile: (202) 205-2800; or electronic mail: Jeanette.Palmer@ams.usda.gov.

SUPPLEMENTARY INFORMATION: Pursuant to the Commodity Promotion, Research and Information Act of 1996 (7 U.S.C. 7411-7425) (Act), it is hereby directed that a referendum be conducted to ascertain whether continuance of the Order is favored by eligible first handlers and importers of mangos covered under the program. The Order is authorized under the Act.

The representative period for establishing voter eligibility for the referendum shall be the period from January 1 through December 31, 2014. First handlers receiving 500,000 or more pounds of mangos from producers and importers importing 500,000 or more pounds of mangos into the United States during the representative period are eligible to vote. Persons who received an exemption from assessments for the entire representative period are ineligible to vote. The referendum shall be conducted by mail ballot from April 6 through April 17, 2015.

Section 518 of the Act authorizes continuance referenda. Under section 1206.71(b) of the Order, the U.S. Department of Agriculture (Department) shall conduct a referendum every five years or when 10 percent or more of the eligible voters petition the Secretary of Agriculture to hold a referendum to determine if persons subject to assessment favor continuance of the Order. The Department would continue the Order if approved by a majority of the first handlers and importers voting in the referendum.

In accordance with the Paperwork Reduction Act of 1995 (44 U.S.C. chapter 35), the referendum ballot has been approved by the Office of Management and Budget (OMB) and assigned OMB No. 0581-0093. It has been estimated that there are approximately five first handlers and 120 importers who will be eligible to vote in the referendum. It will take an average of 15 minutes for each voter to read the voting instructions and complete the referendum ballot.

Referendum Order

Jeanette Palmer and Heather Pichelman, PED, FVP, AMS, USDA, Stop 0244, Room 1406-S, 1400 Independence Avenue SW., Washington, DC 20250-0244, are designated as the referendum agents to conduct this referendum. The referendum procedures at 7 CFR 1206.100 through 1206.108, which were issued pursuant to the Act, shall be used to conduct the referendum.

The referendum agents will mail the ballots to be cast in the referendum and voting instructions to all known first handlers receiving 500,000 or more pounds of mangos from producers and importers importing 500,000 or more pounds of mangos into the United States during the representative period, prior to the first day of the voting period. Persons who are eligible first handlers or importers during the representative period and are first handlers or importers at the time of the referendum are eligible to vote. Persons who received an exemption from assessments during the entire representative period are ineligible to vote. Any eligible first handler or importer who does not receive a ballot should contact a referendum agent no later than one week before the end of the voting period. Ballots must be received by a referendum agent, not later than close of business 4:30 p.m. Eastern time, April 17, 2015, in order to be counted.

List of Subjects in 7 CFR Part 1206

Administrative practice and procedure, Advertising, Consumer information, Marketing agreements, Mango promotion, Reporting and recordkeeping requirements.

Authority: 7 U.S.C. 7411-7425 and 7 U.S.C. 7401.

Dated: February 6, 2015.
Rex A. Barnes,
Associate Administrator.

[FR Doc. 2015-02899 Filed 2-11-15; 8:45 am]

BILLING CODE 3410-02-P